DEPARTMENT OF COMMERCE

International Trade Administration

[A-570-899]

Notice of Correction to Notice of Final Determination of Sales at Less Than Fair Value: Certain Artist Canvas from the People's Republic of China

AGENCY: Import Administration, International Trade Administration, Department of Commerce.

EFFECTIVE DATE: May 8, 2006.

FOR FURTHER INFORMATION CONTACT: Michael Holton or Robert Bolling, Import Administration, International Trade Administration, U.S. Department of Commerce, 14th Street and Constitution Avenue N.W., Washington, DC 20230; telephone: (202) 482-1324 and (202) 482-3434, respectively.

SUPPLEMENTARY INFORMATION:

Correction

On March 30, 2006, the Department of Commerce (“the Department”) published its final determination of sales at less than fair value in the antidumping investigation of artist canvas from the People's Republic of China. See Notice of Final Determination of Sales at Less Than Fair Value; Certain Artist Canvas from the People's Republic of China, 71 FR 16116 (March 30, 2006.) Subsequent to the publication of the final determination, we identified a clerical error in the Federal Register. One of the exporter and producer names in the Final Determination Margins chart is incorrect. The correct name of the exporter and producer should read as follows:

Final Determination Margin

Artist Canvas from the PRC - Weighted-average Dumping Margins
Exporter | Producer | Weighted-average deposit rate
Jiangsu By-products | Su Yang Yinying Stationery and Sports Products Co. Ltd. Corp. | 77.90

This notice is to serve as a correction to the producer and exporter name. The Department's findings in the final determination are correct and remain unchanged.

This correction is issued and published in accordance with section 777(i) of the Tariff Act of 1930, as amended.

Dated: May 2, 2006.
David M. Spooner,
Assistant Secretary for Import Administration.

[FR Doc. E6-6984 Filed 5-5-06; 8:45 am]

BILLING CODE 3510-DS-S